DEPARTMENT OF COMMERCE

National Oceanic and Atmospheric Administration

[RTID 0648-XF255]

Endangered Species; File No. 28338

AGENCY: National Marine Fisheries Service (NMFS), National Oceanic and Atmospheric Administration (NOAA), Commerce.

ACTION: Notice; receipt of application for permit modification.

SUMMARY: Notice is hereby given that Puerto Rico Department of Natural and Environmental Resources, San José Industrial Park, 1375 Ave. Ponce de León, San Juan, PR 00926 (Responsible Party: Nilda Jimenez-Marrero, Ph.D.), has requested a modification to enhancement Permit No. 28338.

DATES: Written comments must be received on or before January 7, 2026.

ADDRESSES: The modification request and related documents are available for review by selecting “Records Open for Public Comment” from the Features box on the Applications and Permits for Protected Species home page, https://apps.nmfs.noaa.gov, and then selecting File No. 28338 mod 1 from the list of available applications. These documents are also available upon written request via email to NMFS.Pr1Comments@noaa.gov.

Written comments on this application should be submitted via email to NMFS.Pr1Comments@noaa.gov. Please include File No. 28338 mod 1 in the subject line of the email comment.

Those individuals requesting a public hearing should submit a written request via email to NMFS.Pr1Comments@noaa.gov. The request should set forth the specific reasons why a hearing on this application would be appropriate.

FOR FURTHER INFORMATION CONTACT: Amy Hapeman or Erin Markin, Ph.D., (301) 427-8401.

SUPPLEMENTARY INFORMATION: The subject modification to Permit No. 28338, issued on March 21, 2025 (90 FR 14122, March 28, 2025) is requested under the authority of the Endangered Species Act of 1973, as amended (16 U.S.C. 1531 et seq.) and the regulations governing the taking, importing, and exporting of endangered and threatened species (50 CFR parts 222-226).

Permit No. 28338 authorizes the permit holder to conduct restoration activities on pillar corals in Puerto Rico to preserve the genetic diversity of the species and increase its population numbers in coral reefs in the wild. Restoration practitioners may collect colonies or parts of colonies from coral reefs in the wild and transport them to in situ and ex situ nurseries for maintenance and propagation. They also may be collected as part of emergency response due to catastrophic events; these colonies would be reattached or stabilized in the wild or transported to a nursery. Colonies also may be outplanted to the wild from nurseries. The permit holder requests to increase annual take numbers of the species for the (1) collection of gametes from 40 wild colonies to facilitate sexual reproduction in the lab, and (2) tissue sampling from 40 wild colonies for genetic and histological analyses. The modification would be valid for the duration of the permit, which is set to expire on March 31, 2035.

Dated: December 4, 2025.
Shannon Bettridge,
Chief, Marine Mammal and Sea Turtle Conservation Division, Office of Protected Resources, National Marine Fisheries Service.

[FR Doc. 2025-22275 Filed 12-8-25; 8:45 am]

BILLING CODE 3510-22-P